DEPARTMENT OF TRANSPORTATION

Federal Aviation Administration

[Summary Notice No. PE-2001-31]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-8029, or Vanessa Wilkins (202) 267-8029 Office of Rulemaking (ARM-1), Federal Aviation Administration, 800 Independence Avenue, SW., Washington, DC 20591.

This notice is published pursuant to §§ 11.85 and 11.91.

Issued in Washington, DC, on April 18, 2001.
Gary A. Michel,
Acting, Assistant Chief Counsel for Regulations.

Docket No.: FAA-2001-9161.

Petitioner: Mid America Aviation, Inc.

Section of the 14 CFR Affected: 14 CFR 135.143(c)(2).

Description of Relief Sought/Disposition: To permit Mid America to operate certain aircraft under part 135 without a TSO-C112 (Mode S) transponder installed in the aircraft.

Grant, 04/06/2001, Exemption No. 7485.

Docket No.: FAA-2001-9159 (formerly Docket No. 28933).

Petitioner: Omniflight Helicopters, Inc.

Section of the 14 CFR Affected: 14 CFR 135.143(c)(2).

Description of Relief Sought/Disposition: To permit Omniflight to operate certain aircraft under part 135 without a TSO-C112 (Mode S) transponder installed in the aircraft.

Grant, 04/06/2001, Exemption No. 6653B.

Docket No.: FAA-2000-8463 (formerly Docket No. 29515).

Petitioner: Peninsula Airways, Inc.

Section of the 14 CFR Affected: 14 CFR 91.323(b)(4).

Description of Relief Sought/Disposition: To permit PenAir to operate two Grumman Goose G-21A aircraft (Registration Nos. N641 and N22932) at a maximum weight of 8,920 pounds.

Grant, 04/06/2001, Exemption No. 6963A.

Docket No.: FAA-2001-8762 (formerly Docket No. 26599).

Petitioner: Regional Airline Association.

Section of the 14 CFR Affected: 14 CFR 91.203.

Description of Relief Sought/Disposition: To permit RAA-member airlines to temporarily operate certain U.S.-registered aircraft in domestic airline operations without the certificates of airworthiness or registration on broad the aircraft.

Grant, 04/06/2001, Exemption No. 5515E.

Docket No.: FAA-2001-9316.

Petitioner: TWA Airlines LLC., and American Airlines, Inc.

Section of the 14 CFR Affected: 14 CFR part 121, appendix I.

Description of Relief Sought/Disposition: To permit employees performing safety sensitive functions for Trans World Airlines, Inc., to perform identical functions for TWA LLC without being subject to additional pre-employment drug testing.

Grant, 04/06/2001, Exemption No. 7480.

Docket No.: FAA-2001-9350.

Petitioner: TWA Airlines, LLC.

Section of the 14 CFR Affected: 14 CFR 121.434(c)(1)(ii).

Description of Relief Sought/Disposition: To permit a qualified and authorized check airmen, in lieu of an FAA inspector, to observe a qualifying pilot in command who is completing initial or upgrade training specified in § 121.424 during at least one flight leg that includes one takeoff and one landing.

Grant, 04/06/2001, Exemption No. 7479.

Docket No.: FAA-2001-9351.

Petitioner: TWA Airlines, LLC.

Section of the 14 CFR Affected: 14 CFR 145.45(f).

Description of Relief Sought/Disposition: To allow TWA LLC to make available one copy of its inspection procedures manual to its supervisory and inspection personnel, rather than giving a copy of the manual to each of these individuals.

Grant, 04/06/2001, Exemption No. 7484.

Docket No.: FAA-2001-9349.

Petitioner: TWA Airlines, LLC.

Section of the 14 CFR Affected: 14 CFR 121.433(c)(1)(iii), 121.441(a)(1) and (b)(1), and appendix F to part 121.

Description of Relief Sought/Disposition: To permit TWA Airlines, LLC., to combine recurrent flight and ground training and proficiency checks for TWA LLC's flight crew members in a single annual training and proficiency evaluation program.

Grant, 04/06/2001, Exemption No. 7481.

Docket No.: FAA-2001-8468 (formerly /Docket No. 28807).

Petitioner: Yankee Air Force, Inc.

Section of the 14 CFR Affected: 14 CFR 91.315, 119.5(g), and 119.21(a).

Description of Relief Sought/Disposition: To permit YAF to operate its former military Boeing B-17G aircraft (Registration No. N3193G, Serial No. 77255), which has a limited category airworthiness certificate, for the purpose of carrying passengers on local flights in return for receiving donations.

Grant, 04/06/2001, Exemption No. 6631B.

Docket No.: FAA-2001-8262.

Petitioner: Airbus Industrie.

Section of the 14 CFR Affected: 14 CFR 25.785(h)(2), 25.807(d)(7), and 25.813(e).

Description of Relief Sought/Disposition: To permit the installation of flight attendant seats that do not provide direct view of the cabin, to exceed a distance of 60′ between adjacent exits, and to allow installation of interior doors between passenger compartments, provided the airplane is not operated for hire, nor offered for common carriage.

Partial Grant, 04/09/2001, Exemption No. 7489.

Docket No.: FAA-2001-8222.

Petitioner: Mesa Airlines, Inc.

Section of the 14 CFR Affected: 14 CFR 121.434(c)(1)(ii).

Description of Relief Sought/Disposition: To permit Mesa to substitute a qualified and authorized check airman in place of an FAA inspector to observe a qualifying pilot in command who is completing initial or upgrade training specified in § 121.424 during at least one flight leg that includes a takeoff and a landing.

Grant, 04/06/2001, Exemption No. 7495.

Docket No.: FAA-2001-8740.

Petitioner: Hospital AirTransport, Inc., dba Helicopter AirTransport, Inc.

Section of the 14 CFR Affected: 14 CFR 133.45(e)(1).

Description of Relief Sought/Disposition: To permit HATI to conduct Class D rotorcraft-load combination operations with an A109E helicopter certificated in the normal category under 14 CFR part 27.

Grant, 04/06/2001, Exemption No. 7486.

[FR Doc. 01-10000 Filed 4-24-01; 8:45 am]

BILLING CODE 4910-13-M